DEPARTMENT OF COMMERCE

National Oceanic and Atmospheric Administration

RIN 0648-XD900

Marine Mammals; File No. 18786

AGENCY: National Marine Fisheries Service (NMFS), National Oceanic and Atmospheric Administration (NOAA), Commerce.

ACTION: Notice; receipt of application.

SUMMARY: Notice is hereby given that the NMFS Office of Protected Resources, Marine Mammal Health and Stranding Response Program (MMHSRP; Responsible Party: Teri Rowles, D.V.M., Ph.D.), 1315 East-West Highway, Silver Spring, MD 20910, has applied in due form for a permit to take, import, and export marine mammals and marine mammal parts for research and enhancement purposes.

DATES: Written, telefaxed, or email comments must be received on or before June 1, 2015.

ADDRESSES: The application and related documents are available for review by selecting “Records Open for Public Comment” from the “Features” box on the Applications and Permits for Protected Species (APPS) home page, https://apps.nmfs.noaa.gov, and then selecting File No. 18786 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Amy Sloan or Jennifer Skidmore, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), the regulations governing the taking, importing, and exporting of endangered and threatened species (50 CFR 222-226), and the Fur Seal Act of 1966, as amended (16 U.S.C. 1151 et seq.).

The MMHSRP proposes to: (1) Carry out response, rescue, rehabilitation and release of threatened and endangered marine mammals under NMFS jurisdiction (Cetacea and Pinnipedia [excluding walrus]), and disentanglement of all marine mammals under NMFS jurisdiction, pursuant to sections 109(h), 112(c), and Title IV of the MMPA; and, carry out such activities as enhancement pursuant to section 10(a)(1)(A) of the ESA; (2) Conduct health-related, bona fide scientific research studies on marine mammals and marine mammal parts under NMFS jurisdiction pursuant to sections 104(c) and Title IV of the MMPA and section 10(a)(1)(A) of the ESA, including research related to emergency response that may involve compromised animals, and research on healthy animals that have not been subject to emergency response (e.g., baseline health studies); (3) Conduct Level B harassment on all marine mammal species under NMFS jurisdiction incidental to MMHSRP activities in the U.S.; and (4) Collect, salvage, receive, possess, transfer, import, export, analyze, and curate marine mammal specimens under NMFS jurisdiction for purposes delineated in numbers (1) and (2) above.

Procedures proposed to carry out the activities include but are not limited to: Close approach via ground, vessel, and aerial surveys (manned and unmanned); hazing and attractants; capture, restraint, and handling; administration of drugs including anesthesia, medical treatments, vaccinations; attachment of scientific instruments; marking (temporary and permanent including freeze- and hot-branding); disentanglement and de-hooking; rehabilitation, transport, and release; biological sampling and analyses; auditory brainstem response/auditory evoked potential; active acoustic playbacks; unintentional mortality and euthanasia; and import and export activities. The permit is requested for a 5-year period.

In compliance with the National Environmental Policy Act of 1969 (NEPA; 42 U.S.C. 4321 et seq.), an initial determination has been made that the majority of activities proposed are consistent with the Preferred Alternative in the 2009 Final Programmatic Environmental Impact Statement (PEIS) for the Marine Mammal Health and Stranding Response Program. Also, a draft environmental assessment (EA) has been prepared in compliance with NEPA to examine whether significant environmental impacts could result from permitting new activities (hot branding, UAS, and vaccinations), which were not considered in the Final PEIS. The draft EA is available for review and comment simultaneously with the permit application.

Concurrent with the publication of this notice in the Federal Register, NMFS is forwarding copies of the application to the Marine Mammal Commission and its Committee of Scientific Advisors.

Dated: April 28, 2015.
Julia Harrison,
Chief, Permits and Conservation Division, Office of Protected Resources, National Marine Fisheries Service.

[FR Doc. 2015-10186 Filed 4-30-15; 8:45 am]

BILLING CODE 3510-22-P